DEPARTMENT OF LABOR

[Agency Docket Number DOL-2024-0005]

Notice of Publication to the Department of Labor's List of Goods Produced by Child Labor or Forced Labor, and Updates to the List of Products Requiring Federal Contractor Certification as to Forced or Indentured Child Labor

AGENCY: Bureau of International Labor Affairs, U.S. Department of Labor.

ACTION: Notice of publication of List of Goods Produced by Child labor or Forced Labor and proposed revisions to the List of Products Requiring Federal Contractor Certification as to Forced or Indentured Child Labor pursuant to Executive Order 13126; request for information.

SUMMARY: This notice announces the publication on September 5, 2024, of an updated list of goods—along with countries of origin—that the Department of Labor (DOL) has reason to believe are produced with child labor or forced labor in violation of international standards (the TVPRA List). DOL, in consultation with U.S. Departments of State and Homeland Security, also proposes to revise the list required by the Executive order entitled “Prohibition of Acquisition of Products Produced by Forced or Indentured Child Labor” to add garments from Bangladesh and invites public comments. Finally, DOL invites information and/or comment on the likelihood of child labor and/or forced child labor in the production of shrimp from India, on child labor and/or forced labor risks in gold supply chain inputs connected to the United Arab Emirates (UAE), and any other product not mentioned in this notice.

DATES: Comments should be submitted to the Office of Child Labor, Forced Labor, and Human Trafficking (OCFT) via one of the methods described below and must be received by no later than 11:59 p.m. ET, December 16, 2024, to guarantee consideration.

ADDRESSES: Information submitted to the Department of Labor should be submitted directly to OCFT, Bureau of International Labor Affairs, U.S. Department of Labor by 11:59 p.m. ET, on December 16, 2024. Comments, identified as “Docket No. DOL-2024-0005,” may be submitted by any of the following methods:

Federal eRulemaking Portal: The portal includes instructions for submitting comments. Parties submitting responses electronically are encouraged not to submit paper copies.

Digital Accessibility: DOL is required to ensure that all its digital information is accessible to people with disabilities, including those who use assistive technology such as screen readers. Therefore, DOL requests that your submissions through the portal be as accessible as possible. If you are able to conform to the current Web Content Accessibility Guidelines (WCAG), then please do so. Otherwise, DOL requests that submissions be made in a Microsoft Word document, using the built-in Styles for document formatting, including descriptive Alt Text on embedded images and graphics, and using the built-in Word Accessibility Checker for additional accessibility improvements. Although permissible, please avoid submitting scanned images, screen shots, or PDFs whenever possible.

Facsimile (fax): OCFT at 202-693-4830.

Mail, Express Delivery, Hand Delivery, and Messenger Service (1 copy): Matthew Fraterman at U.S. Department of Labor, ILAB/Office of Child Labor, Forced Labor, and Human Trafficking, 200 Constitution Ave. NW, Room S-5317, Washington, DC 20210.

Email: Email submissions should be addressed to Matthew Fraterman. Email: ILAB-eo13126@dol.gov.

FOR FURTHER INFORMATION CONTACT: Matthew Fraterman, Office of Child Labor, Forced Labor, and Human Trafficking, Bureau of International Labor Affairs, U.S. Department of Labor at (202) 693-4833 (this is not a toll-free number) or Fraterman.matthew@dol.gov. Individuals with hearing or speech impairments may access the telephone number above via TTY by calling the Federal Information Relay Service at 1-877-889-5627.

SUPPLEMENTARY INFORMATION: I. TVPRA List: The Bureau of International Labor Affairs (ILAB) announces the publication of the eleventh edition of the List of Goods Produced by Child Labor or Forced Labor (TVPRA List), pursuant to the Trafficking Victims Protection Reauthorization Act of 2005, as amended (TVPRA). DOL published the initial TVPRA List on September 10, 2009, and has since published ten updated editions. The 2024 edition of the TVPRA List includes 204 goods from 82 countries. This eleventh edition adds a total of 72 items and removes four items from the TVPRA List: blueberries from Argentina, salt from Cambodia, fluorspar from Mongolia, and shrimp from Thailand.

Section 105(b) of the Trafficking Victims Protection Reauthorization Act of 2005, Public Law 109-164 (2006), 22 U.S.C 7112(b), as amended by section 133 of the Frederick Douglass Trafficking Victims Prevention and Protection Reauthorization Act of 2018, Public Law 115-425 (2019), directs the Secretary of Labor, acting through ILAB, to “develop and make available to the public a list of goods from countries that [ILAB] has reason to believe are produced by forced labor or child labor in violation of international standards, including, to the extent practicable, goods that are produced with inputs that are produced with forced labor or child labor.”

The primary purposes of the TVPRA List are to raise public awareness about the prevalence of child labor and forced labor in the production of goods in the countries listed and to promote efforts to eliminate such practices. The updated TVPRA List, methodology, and bibliography of sources is available on DOL's website.

II. E.O. 13126 List: DOL is requesting public comment on the revision to the list proposed below, as well as any other issue related to the fair and effective implementation of Executive Order (E.O.) 13126, “Prohibition of Acquisition of Products Produced by Forced or Indentured Child Labor”. This notice is a general solicitation of comments from the public. All submitted comments will be made a part of the public record and will be available for inspection on https://www.regulations.gov.

The E.O. 13126 List identifies a list of products, by their country of origin, that DOL, in consultation and cooperation with the Department of State and the Department of Homeland Security (hereinafter “the Departments”), has a reasonable basis to believe might have been mined, produced, or manufactured by forced or indentured child labor. Federal contracting officers must check the E.O. 13126 List when issuing a solicitation for supplies expected to exceed the micro-purchase threshold and take certain steps if the solicited product appears on the list (48 CFR 22.1503).

In conducting research for this initial determination, DOL considered a wide variety of materials based on its own research and originating from other U.S. Government agencies, international organizations, non-governmental organizations, academic and other independent research, media, and other sources. In developing the proposed revision to the E.O. 13126 List, DOL's review focused on information concerning the use of forced or indentured child labor that was available from the above sources.

As outlined in the Procedural Guidelines, several factors were weighed in determining whether or not a product should be placed on the revised E.O. 13126 List: The nature of the information describing the use of forced or indentured child labor; the source of the information; the date of the information; the extent of corroboration of the information by other sources; whether the information involved more than an isolated incident; and whether recent and credible efforts are being made to address forced or indentured child labor in a particular country or industry (66 FR 5351).

This notice constitutes the initial determination to revise the E.O. 13126 List. Based on recent credible and appropriately corroborated information from various sources, the Departments preliminarily conclude there is a reasonable basis to believe that the following product, identified by the country of origin, might have been mined, produced, or manufactured by forced or indentured child labor: garments from Bangladesh. DOL invites public comment on whether this product should be included in the revised E.O. 13126 List.

III. Request for Information: Finally, DOL invites public comment on whether other goods or products, regardless of whether they are mentioned in this notice, should be included in or removed from the E.O. 13126 List and/or future editions of the TVPRA List.

Specifically, DOL seeks information and/or comment on the likelihood of child labor and/or forced child labor in the production of shrimp from India. DOL has not determined at this time to add shrimp from India to the E.O. 13126 List but requests relevant information on this and any other products that pertain to the maintenance of the E.O. 13126 List.

In addition, DOL seeks information and/or comment on child labor and/or forced labor in gold supply chain inputs in the production of downstream goods in the UAE, including gold originating from the Democratic Republic of Congo, Cameroon, the Central African Republic, Mali, Sudan, Zimbabwe, and any other relevant countries, as well as efforts to address child labor and/or forced labor in global supply chains in Africa and improve traceability into the UAE and other markets. DOL has not determined at this time to add gold from the UAE to the TVPRA List but requests relevant information on this and any other products that pertain to the maintenance of the TVPRA List.

Where applicable, information submitted should indicate its source or sources and copies of the source material should be provided. If primary sources are utilized, such as research studies, interviews, direct observations, or other sources of quantitative or qualitative data, details on the research or data-gathering methodology should be provided.

(Authority: 22 U.S.C. 7112(b)(2)(C))

Signed at Washington, DC, this 3rd day of September, 2024.
Thea Mei Lee,
Deputy Undersecretary for International Affairs.

[FR Doc. 2024-20153 Filed 9-4-24; 8:45 am]

BILLING CODE 4510-28-P